DEPARTMENT OF ENERGY

Proposed Agency Information Collection

AGENCY: Department of Energy.

ACTION: Notice and request for comments.

SUMMARY: The Department of Energy invites public comment on a proposed collection of information that the Department is developing for submission to the Office of Management and Budget (OMB) pursuant to the Paperwork Reduction Act of 1995. The proposed collection of information is in an interim final rule pertaining to standby support that was published in the Federal Register on May 15, 2006.

Request for Comments: Pursuant to 44 U.S.C. 3506(c)(2)(A), the Department invites comment on: (1) Whether the recordkeeping requirements in the interim final rule are necessary for the proper performance of the functions of the agency, including whether the information has practical utility; (2) the accuracy of the Department's estimate of the burden of the proposed information collection, including the validity of the methodology and assumptions used; (3) ways to enhance the quality, utility, and clarity of the information to be collected; and (4) ways to minimize the burden of the collection of information on those who choose to respond, including through the use of automated collection techniques or other forms of information technology. Additional information about the Department's proposed information collection may be obtained from the contact person named in this notice.

DATES: Comments regarding this collection must be received on or before December 18, 2006. If you anticipate that you will be submitting comments, but find it difficult to do so within the period of time allowed by this notice, please advise the OMB Desk Officer of your intention to make a submission as soon as possible. The Desk Officer may be telephoned at 202-395-4650.

ADDRESSES: Written comments should be sent to: DOE Desk Officer, Office of Information and Regulatory Affairs, Office of Management and Budget, New Executive Office Building, Room 10102, 735 17th Street, NW., Washington, DC 20503.

Comments should also be addressed to: Jeffrey Martus, IM-11/Germantown Building, U.S. Department of Energy, 1000 Independence Ave SW., Washington, DC 20585-1290.

or by fax at 301-903-9061 or by e-mail at Jeffrey.martus@hq.doe.gov.

FOR FURTHER INFORMATION CONTACT: Kenneth Chuck Wade, Project Manager, Office of Nuclear Energy, NE-30, U.S. Department of Energy, Room A-264, 19901 Germantown Road, Germantown, MD 20874-1290. (301) 903-6509 or Marvin Shaw, Attorney-Advisor, U.S. Department of Energy, Office of the General Counsel, GC-52, 1000 Independence Avenue, SW., Washington DC 20585. (202) 586-2906.

SUPPLEMENTARY INFORMATION: The information collection packages listed in this notice for public comment include the following:

(1) OMB No. None.

(2) Collection title: Standby Support for Certain Nuclear Plant Delays.

(3) Type of review: New collection.

(4) Type of respondents: Sponsors of new advanced nuclear facilities.

(5) Estimated number of respondents: Three to five per year.

(6) Estimated total burden hours: 218.

(7) Frequency of response: Single submission.

(8) Abstract: On May 15, 2006, the Department published an interim final rule to implement section 638 of the Energy Policy Act of 2005 that authorizes the Secretary of Energy to enter into Standby Support Contracts with sponsors of advanced nuclear power facilities to provide risk insurance for certain delays attributed to the regulatory process or litigation. (71 FR 28200). That rule contains the following recordkeeping requirements that must be approved by OMB pursuant to the Paperwork Reduction Act of 1995 (44 U.S.C. 3501 et seq.) before sponsors can be required to comply with them: (1) Section 950.10(b) contains information collection requirements pertaining to eligibility; (2) Section 950.12(a) contains information collection requirements pertaining to fulfillment of conditions precedent to a Standby Support Contract; and (3) Section 950.23 contains information collection requirements pertaining to submission of claims for payment of covered costs under a Standby Support Contract.

Issued in Washington, DC, on November 8, 2006.
Lorretta D. Bryant,
Acting Director, Records Management Division, Office of the Chief Information Officer.

[FR Doc. E6-19482 Filed 11-16-06; 8:45 am]

BILLING CODE 6450-01-P